DEPARTMENT OF HEALTH AND HUMAN SERVICES

Indian Health Service

Health Promotion and Disease Prevention

Announcement Type: New/Competing Continuation.

Funding Opportunity Number: HHS-2006-IHS-HP/DP-0001.

Catalog of Federal Domestic Assistance Number: 93.443.

Key Dates:

Application Deadline Date: May 26, 2006.

Application Review Date: June 27, 2006.

Application Notification: August 1, 2006.

Earliest Anticipated Start Date: September 1, 2006.

I. Funding Opportunity Description

The Indian Health Service (IHS) announces the competitive grant for Health Promotion and Disease Prevention. This Program is authorized under the authority of the Snyder Act, 25 U.S.C. 13; the Transfer Act, 42 U.S.C. 2001; and the Indian Health Care Improvement Act, 25 U.S.C. 1621(b), et seq., as amended. This Program is described at 93.443 in the Catalog of Federal Domestic Assistance.

Note: This announcement applies to new and existing applicants. Overlapping support for current grantees that wish to apply for this funding as a new applicant must be resolved prior to funding. If the funding period of the new award overlaps with current support, the grantee must relinquish or reduce funding on the current award. For additional information or clarification, please contact Ms. Michelle Bulls, Grants Policy Officer at (301) 443-6528.

The purpose of the program is to enable American Indian/Alaska Native (AI/AN) communities to enhance and expand health promotion and reduce chronic disease by: Increasing physical activity, avoiding the use of tobacco, alcohol, and other unhealthy addictive substances, and improving nutrition to support healthier AI/AN communities through innovative and effective community, school, clinic and work site health promotion and chronic disease prevention programs.

The IHS HP/DP Initiative focuses on enhancing and expanding health promotion and chronic disease prevention to reduce health disparities among AI/AN populations. The initiative is fully integrated with the Department of Health and Human Services (HHS) Initiatives “Healthy People 2010” and “Steps to a HealthierUS”. Potential applicants may obtain a printed copy of Healthy People 2010, (Summary Report No. 017-001-00549-5) or CD-ROM, Stock No. 017-001-00549-5, through the Superintendent of Documents, Government Printing Office, P.O. Box 371954, Pittsburgh, PA 15250-7945, (202) 512-1800. You may also access this information at the following Web sites: http://www.healthypeople.gov/Publications and http://www.healthierus.gov/.

The HP/DP Initiative targets cardiovascular disease, cancer, obesity, and substance abuse prevention and intervention efforts in AI/AN communities. Focus efforts include enhancing and maintaining personal and behavioral factors that support healthy lifestyles such as making healthier food choices, avoiding the use of tobacco, alcohol, and other harmful substances, being physically active, and demonstrating other positive behaviors to achieve and maintain good health.

Major focus areas include preventing and controlling obesity by developing and implementing science-based nutrition and physical activity interventions (i.e., increase consumption of fruits and vegetables, reduce consumption of foods that are high in fat, increase breast feeding, reduce television time, and increase opportunities for physical activity). Other focal areas include preventing the consumption of alcohol and tobacco use among youth, increasing accessibility to tobacco cessation programs, and reducing exposure to second-hand smoke.

The HP/DP initiative encourages Tribal applicants to fully engage their local schools, communities, health care providers, health centers, faith-based/spiritual communities, senior centers, youth programs, local governments, academia, non-profit organizations, and many other community sectors to work together to enhance and promote health and prevent chronic disease in their communities.

The initiative is described in the Catalog of Federal Domestic Assistance No. 93.443 at http://www.cfda.gov/ and is not subject to the intergovernmental requirements of Executive Order 12372 or the Health Systems Agency review. This competitive grant is awarded under the authorization of the Snyder Act, 25 U.S.C. 13; the Transfer Act, 42 U.S.C. 2001; and the Indian Health Care Improvement Act, 25 U.S.C. 1621(b), et seq., as amended. The grant will be administered under the Public Health Service (PHS) Grants Policy Statement and other applicable agency policies.

The HHS is committed to achieving the health promotion and disease prevention objectives of Healthy People 2010, a HHS-led activity for setting and monitoring program for priority areas. This program announcement is related to the priority area of Education and Community-Based Programs. Potential applicants may obtain a printed copy of Healthy People 2010, (Summary Report No. 017-001-00549-5) or CD-ROM, Stock No. 017-001-00549-5, through the Superintendent of Documents, Government Printing Office, P.O. Box 371954, Pittsburgh, PA, 15250-7945, (202) 512-1800. You may also access this information at the following Web site: http://www.healthypeople.gov/Publications.

1. Background

Heart disease, cancer and unintentional injuries are the leading cause of morbidity and mortality among AI/AN. Many of these diseases and injuries are impacted by modifiable behavioral risk factors such as physical inactivity, unhealthy diet, tobacco, and alcohol abuse. Concerted efforts to increase effective public health, prevention, and intervention strategies are necessary to reduce tobacco/alcohol use, poor diet, and insufficient physical activity to reduce the burden of diseases and disabilities in AI/AN communities.

Although the National 2010 objective recommends that adults engage in 30 minutes of regular, moderate physical activity each day, only 15 percent of adults performed the recommended amount of physical activity. Despite the well known benefits of physical activity, many adults and children remain sedentary. A healthy diet and regular physical activity are both important for maintaining a healthy weight. Regular physical activity, fitness, and exercise are extremely important for the health and well being of all people. A profound change from a “traditional” low fat diet of largely unprocessed plant foods to an “affluent” high fat diet of more animal fats, simple carbohydrates, and less fiber is accompanied by an increasing prevalence of obesity and chronic diseases. Historically, American Indians consumed a diet that was high in complex carbohydrates, high in fiber, and low in fat. Today, their diet is replaced by food high in refined carbohydrates, fat, and a low consumption of fruits and vegetables. A proliferation of fast food restaurants and convenience stores selling foods that are high in fat and sugar, as well as sedentary lifestyles have translated into weight gain and obesity. There are also epidemiological studies indicating that increased intake of fruits and vegetables decreases the risk of many types of cancer.

Many of the medical and health problems of AI/AN are associated with obesity. There is limited data on the prevalence of obesity among AI/AN, although it is estimated that 40 percent of American Indian children are overweight and one-third of adults are obese. Tobacco use is the largest preventable cause of disease and premature death in the United States. More than 400,000 Americans die each year from illnesses related to smoking. Cardiovascular disease and lung cancer are the leading causes of death among AI/AN, and tobacco use is one of the risk factors for these diseases. Non-ceremonial tobacco use varies amongst AI/AN regions and states. Alcohol and illicit drug use are associated with serious public health problem including violence, motor vehicle crashes, and teen pregnancy among youth. Long term drinking can lead to heart disease, cancer, and alcohol-related liver disease.

Interventions may include environmental and policy changes in the community, school, clinic or work site to increase physical activity, increase healthier food items at school fund raising, vending machines, school food service, senior centers, shopping centers, food vendors, work sites, Tribal colleges and other community settings. Other strategies include implementing no smoking policies in the workplace and clinics, creating safe walking trails for community access, improving access to tobacco cessation programs, utilizing social marketing to promote change and prevent disease, reducing underage drinking, increasing effective self management of chronic disease and associated risk factors, and increasing evidence-based clinical preventive care practices. Programs are expected to utilize evidence-based public health strategies that may include system improvement, public education and information, media campaigns to support healthier behaviors, policy and environmental changes, community capacity building and training, school classroom curricula, and health care provider education.

2. Activities

All recipient activities funded under this program announcement are required to coordinate with existing federal, local public health agencies, Tribal programs, and/or local coalitions/task forces to enhance joint efforts to strengthen health promotion and disease prevention programs in the community, school and/or work site. All recipients are required to address at least one of the following or a combination of all four components: School, work site, clinic, or community-based interventions.

A. Community Engagement

Create and build on current alliances by identifying key coalitions, task forces, and partners that focus on health promotion and chronic disease prevention and its associated risk factors. The key to success is to engage partners and stakeholders that demonstrate commitment to the initiative by their willingness to invest leadership, personnel, expertise, and other resources. Partners may include local public health agencies, local health programs, local and state education agencies (i.e., Bureau of Indian Affairs and public), Indian Health Service, health care hospitals/clinics, local businesses, academia, spiritual and faith-based organizations, community coalitions/task forces, youth-focused organizations, and elderly-focused organizations.

B. Community, Work Site, Clinic-Based, and/or School-Based Interventions

Identify and implement high priority, effective strategies proven to prevent, reduce and control chronic diseases. The communities must examine their chronic disease burden, identify behavioral risk factors, at-risk populations, current services and resources, Tribal and IHS strategic plans, and partnership capabilities in order to develop a comprehensive intervention plan. Applicants are encouraged to identify and examine local data sources to describe the extent of the health problem. Data sources include IHS Resource Patient Management System (RPMS), Government Performance and Results Act (GPRA), Clinical Registry System (CRS), diabetes registry, hospital/clinic data, Women Infant Children (WIC) data, school data, behavioral risk surveys, and other sources of information about individual, group, or community health status, needs, and resources.

Communities can address behavioral risk factors contributing to chronic conditions and diseases such as cardiovascular disease, diabetes, obesity, and cancer. These factors include physical inactivity, poor nutrition, tobacco, alcohol and substance use. Applicants are encouraged to apply effective and innovative strategies to reduce chronic disease and unintentional injuries associated with alcohol and substance use. Current evidence-based and promising public health strategies can be found at the IHS Best Practices database at http://www.ihs.gov/NonMedicalPrograms/HPDP/BPTR/, Guide to Clinical Preventive Services at http://www.odphp.osophs.dhhs.gov/pubs/guidecps/ and http://www.ahrq.gov and the National Registry for Effective Programs at http://modelprograms.samhsa.gov/template.cfm?page=nrepbutton.

II. Award Information

Type of Funding Awards: Grant.

Estimated Funds Available: $1,300,000.

Anticipated Number of Awards: 13.

Project Period: 3 Year Budget Period.

Maximum Award Amount: $100,000 per year.

This amount is inclusive of direct and indirect costs. Awards under this announcement are subject to the availability of funds and satisfactory performance. Future continuation awards within the project period will be based on satisfactory performance, availability of funding and continuing needs of the IHS.

If you request funding greater than $100,000, your application may not be considered, and it may not be entered into the review process. You will be notified if your application did not meet the submission requirements.

III. Eligibility Information

1. Eligible Applicants

Eligible Applicants must be one of the following:

A. A federally-recognized Indian Tribe; or

B. Non-Profit Tribal organization; or

C. Urban Indian organizations as defined by 25 U.S.C. 1652.

Applicants must provide proof of non-profit status with the application.

2. Cost Sharing or Matching

Cost sharing or matching is not required.

3. Other Requirements

Late applications will be considered non-responsive. See Section “IV.3. Submission Dates and Times” for more information on deadlines.

Tribal Resolution(s)—A resolution of the Indian Tribe served by the project should accompany the application submission. An Indian Tribe that is proposing a project affecting another Indian Tribe must include resolutions from all affected Tribes to be served. Draft resolutions may be submitted in lieu of an official signed resolution. The applicant must state when the final resolution will be obtained and submitted. An official signed Tribal resolution is required prior to award if the Tribe is selected for funding. The entity should submit the resolution (draft or final) prior to the application review date or the application will be considered incomplete and it will be returned without consideration.

IV. Application and Submission Information

1. Web Address for Application Package

Applicant package for HHS-2006-IHS-HP/DP-0001 may be found at: http://www.grants.gov.

Information regarding the program or grants management related inquiries may be obtained from either of the following persons:

Program Contact: Ms. Alberta Becenti, Division of Clinical & Preventive Services, Indian Health Service, 801 Thompson Avenue, Suite 307, Rockville, Maryland 20852. Phone (301) 443-4305.

Grants Policy Contact: Ms. Denise Clark, Division of Grants Operations, Indian Health Service, 801 Thompson Avenue, Suite 320, Rockville, Maryland 20852. Phone (301) 443-5204.

Information regarding the electronic application process or to obtain a waiver from the electronic process should be directed to: Grants Policy Staff, Michelle G. Bulls, Grants Policy Officer, Indian Health Service. (301) 443-6528.

The entire application package is available at: http://www.grants.gov.

2. Content and Form of Application Submission

Submission Dates and Times

Content and Form of Application Submission if prior approval for paper submission was obtained:

A. All applications should:

(1) Be single-spaced.

(2) Be typewritten.

(3) Have consecutively numbered pages.

(4) If unable to submit electronically, submit using a black type not smaller than 12 characters per one inch.

a. Submit on one side only of standard size 81/2″ x 11″ paper.

b. Do not tab, glue, or place in a plastic holder.

(5) Contain a narrative that does not exceed 20 typed pages that includes the below listed sections. The 20-page narrative does not include the work plan, standard forms, Tribal resolution(s), table of contents, budget, budget justifications, multi-year narratives, multi-year budget, multi-year budget justifications, and/or other appendix items.

Public Policy Requirements: All Federal-wide public policies apply to IHS grants with the exception of Lobbying and Discrimination.

(1) Include in the application the following documents in the order presented:

a. Standard Form 424, Application for Federal Assistance.

b. Standard Form 424A, Budget Information—Non-Construction Programs (pages 1-2).

c. Standard Form 424B, Assurances—Non-Construction Programs front and back. The application shall contain assurances to the Secretary that the applicant will comply with program regulations, 42 CFR Part 136 Subpart H. [?USGPO Galley End:?]

d. Certification.

e. Disclosure of Lobbying Activities.

f. Project Abstract (may not exceed one typewritten page) which should present a summary view of “who-what-when-where-how-cost” to determine acceptability for review.

g. Table of Contents with corresponding numbered pages.

h. Project Narrative (not to exceed 20 typewritten pages).

i. Categorical Budget Narrative and Budget Justification.

j. Appendix Items.

3. Submission Dates and Times

Applications must be submitted electronically through Grants.gov by close of business May 26, 2006. If technical issues arise and the applicant is unable to successfully complete the electronic application process, the applicant must contact Michelle G. Bulls, Grants Policy Officer fifteen days prior to the application deadline and advise them of the difficulties you are having submitting your application on line. At that time, a determination will be made as to whether the organization is eligible to receive a waiver to submit a paper application which includes an original and 2 copies. Prior approval must be obtained, in writing, allowing the paper submission. Applications that are not submitted through Grants.gov may be returned to the applicant without review and it will not be considered for funding. Each applicant should request a legibly dated U.S. Postal Service postmark or obtain a legibly dated receipt from a commercial carrier or U.S. Postal Service. Private metered postmarks will not be acceptable as proof of timely mailing.

Extension of deadlines: IHS may extend application deadlines when circumstances such as acts of God (floods, hurricanes, etc.) occur, or when there are widespread disruptions of mail service, or in other rare cases. Determination to extend or waive deadline requirements rests with the Grants Management Officer, Division of Grants Operations (DGO).

Late applications will be returned to the applicant without review or consideration. IHS will not acknowledge receipt of applications under this announcement.

4. Intergovernmental Review

Executive Order 12372 requiring intergovernmental review is not applicable to this program.

5. Funding Restrictions

A. Pre-award costs are not allowable unless the grantee receives prior approval from the Program Official.

B. Funds may be used to expand or enhance existing activities to accomplish the objectives of this program announcement. Funds may be used to pay for consultants, contractors, materials, resources, travel and associated expenses to implement and evaluate intervention activities such as those described under the “Activities” section of this announcement. Funds may not be used for direct patient care, diagnostic medical testing, patient rehabilitation, pharmaceutical purchases, facilities construction, or lobbying.

C. Each HP/DP award shall not exceed $100,000 a year or a total of $300,000 for 3 years.

D. The available funds are inclusive of direct and indirect costs.

E. Only one grant will be awarded per applicant.

6. Other Submission Requirements

A. Electronic Transmission: The preferred method for receipt of applications is electronic submission through Grants.gov Web site. However, should any technical problems arise regarding the submission, please contact Grants.gov Customer Support at (800) 518-4726 or e-mail your questions to support@grants.gov. The Contact Center hours of operation are Monday-Friday from 7 a.m. to 9 p.m. (Eastern Standard Time). If you require additional assistance, please contact IHS Grants Policy Staff at (301) 443-6528 at least fifteen days prior to the application deadline. To submit an application electronically, please use the http://www.Grants.gov Web site. Download a copy of the application package from the Grants.gov Web site, complete it offline and then upload and submit the application via the Grants.gov Web site. You may not e-mail an electronic copy of a grant application.

Please note the following:

(1) Under the new IHS requirements, paper applications are not the preferred method. However, if you have technical problems submitting your application online, please contact Grants.gov Customer Support at: http://www.grants.gov/CustomerSupport. If technical issues continue and the applicant is unable to successfully complete the electronic application process, the applicant must contact Michelle Bulls, Grants Policy Officer fifteen days prior to the application deadline and advise them of the difficulties you are having submitting your application online. At that time, it will be determined whether your organization may submit a paper application. The grantee must obtain prior approval, in writing, from the Grants Policy Officer allowing the paper submission. Applications not submitted through Grants.gov without a waiver may be returned to the applicant without review. Applicants must download the application package from Grants.gov and complete all required forms.

(2) If applicable, the paper application (original and 2 copies) may be sent directly to Denise Clark, Division of Grants Operations, 801 Thompson Avenue, TMP 360, Rockville, MD 20852, telephone (301) 443-5204 by May 26, 2006.

(3) When you enter the Grants.gov Web site, you will find information about submitting an application electronically through the Web site, as well as the hours of operation. We strongly recommend that applicants not wait until the deadline date to begin the application process through Grants.gov Web site.

(4) To use Grants.gov, you, as the applicant, must have a DUNS number and register with the Central Contractor Registry (CCR). You should allow a minimum of five days to complete CCR registration. See below on how to apply.

(5) You must submit all documents electronically, including all information typically included on the SF-424 and all necessary assurances and certifications.

(6) Your application must comply with any page limitation requirements described in the program announcement.

(7) After you electronically submit your application, you will receive an automatic acknowledgment from Grants.gov that contains a Grants.gov tracking number. The IHS DGO will retrieve your application from Grants.gov Web site.

(8) You may access the electronic application for this program on http://www.Grants.gov.

(9) You must search for the downloadable application package by CFDA number 93.443.

(10) To download the application package, the applicant must provide the Funding Opportunity Number: HHS-2006-IHS-HP/DP-0001.

E-mail applications will not be accepted under this announcement.

B. DUNS Number: Beginning October 1, 2003, applicants were required to have a Dun and Bradstreet (DUNS) number. The DUNS number is a nine-digit identification number which uniquely identifies business entities. Obtaining a DUNS number is easy and there is no charge. To obtain a DUNS number, access http://www.dnb.com/us/ or call (866) 705-5711. Interested parties may wish to obtain their DUNS number by phone to expedite the process.

Applications submitted electronically must also be registered with the Central Contractor Registry (CCR). A DUNS number is required before CCR registration can be completed. Many organizations may already have a DUNS number. Please use the telephone number listed above to investigate whether or not your organization has a DUNS number. Registration with the CCR is free of charge.

Applicants may register by calling (888) 227-2423. Applicants must also be registered with the CCR to submit electronically. Please review and complete the CCR “Registration Worksheet” located in the appendix of the HP/DP application package or on http://www.Grants.gov/CCRRegister.

More detailed information regarding these registration processes can be found at the http://www.Grants.gov Web site.

C. Other Requirements: (1) Please number pages consecutively from beginning to end so that information can be located easily during review of the application. Appendices should be labeled and separated from the Project Narrative and Budget Section, and the pages should be numbered to continue the sequence.

(2) Abstract—describing the overall project, intervention area and population size, partnerships, intervention strategies, and major outcomes. The abstract is limited to 1 page.

(3) Table of Contents—with page numbers for each of the following sections.

(4) Application Narrative—the application narrative (excluding the appendices) must be no more than 20 pages, single-spaced, printed on one side, with one-inch margins, and black type not smaller than 12 characters per one inch. If your narrative exceeds the page limit, only the first 20 pages will be reviewed. The narrative should include background and needs; intervention plan; monitoring and evaluation; organizational capabilities and qualifications; communication and information sharing. The narrative should include a summary of the organizations that have submitted letters of support, resolution, and Memorandum of Understanding (as appropriate) from the local key partners specifying their roles, responsibilities, and resources. Actual letters, resolution, and Memorandum of Understanding should be placed in the appendix.

(5) Line-Item Budget Narrative and Budget Justification—detailed budget by line items and a detailed budget narrative justification explaining why each budget line item is necessary/relevant to the proposed project (personnel, supplies, equipment, training etc.). You may include in-kind services to carry out proposed plans.

(6) Appendix—the following additional information may be included in the appendix. The appendices will not be counted toward the narrative page limit. Appendices are limited to the following items:

a. Multi-Year Objectives and Work Plans with Multi-Year Categorical Budgets and Multi-Year Budget Narrative Justifications.

b. Categorical Budget Line-Items and Budget Narrative Justification.

c. Tribal Resolution(s) or Health Board Resolution(s).

d. Organizational Chart(s).

e. Letters of Support, Resolution, or Memorandum of Understanding.

f. Resumes of key staff that reflect current duties.

g. Indirect Cost Rate Agreement.

h. Proposed Contractual or Consultant Scope of Work, if applicable.

i. Resumes or Qualifications of Contractors or Consultants, if applicable.

(7) Workplan—Any material submitted in the appendices that is not listed here will not be reviewed. All information included in the appendices should be clearly referenced within the 20 page narrative to aid reviewers in connecting information in the appendices to that provided in the narrative.

V. Application Review Information

1. Criteria

You are required to provide measurable objectives related to the performance goals and intended outcome. Applicants will be evaluated and rated according to weights assigned to each section as noted in parentheses.

A. Abstract. (no points)

B. Background and Needs. (Total 20 points)

• Is the proposed intervention and the extent of the problem clearly and thoroughly described, including the targeted population served and geographic location of the proposed project? (5 points)

• Are data provided to substantiate the existing burden and/or disparities of chronic diseases and conditions in the target population to be served? (5 points)

• Are assets and barriers to successful program implementation identified? (5 points)

• How well are existing resources used to complement or contribute to the effort planned in the proposal? (5 points)

C. Intervention Plan. (Total 30 points)

• Does the plan include objectives, strategies, and activities that are specific, realistic, measurable, and time-phased related to identified needs and gaps in existing programs? (10 points)

• Does the proposed plan include intervention strategies to address risk factors contributing to chronic conditions and diseases? (5 points)

• How well does the plan reflect local capacity to provide, improve, or expand services that address the needs of the target population? (5 points)

• Does the proposed plan include the action steps in a time line, identify who will perform the action steps, identify who will coordinate the project, and identify who will develop and collect the evaluation, and include any training that will take place during the proposed project? Provide the work plan/time line in the appendix. (5 points)

• If the plan includes consultants or contractors, does the plan include educational requirements, work experience and qualifications, expected work products to be delivered and a time line? If a potential consultant/contractor has already been identified, please include a resume in the appendix. (5 points)

D. Plan for Monitoring and Program Evaluation. (Total 20 points)

• Does the plan describe appropriate data sources to monitor and track changes in community capacity; the extent to which interventions reach populations at risk; changes in risk factors; and changes in program efficiency? (7 points)

• Does the applicant demonstrate the capability to conduct surveillance and program evaluation, access and analyze data sources, and use the evaluation to strengthen the program? (7 points)

• Does the applicant describe how the project is anticipated to improve specific performance measures and outcomes compared to baseline performance? (6 points)

E. Organizational Capabilities, Qualifications and Collaboration. (Total 10 points)

• Does the plan include the organizational structure of the Tribe/Tribal or Urban Indian organization? (1 point)

• Does the plan include the ability of the organization to manage the proposed plans, including information on similar sized projects in scope as well as other grants and projects successfully completed? (2 points)

• Does the applicant include key personnel who will work on the project? Position descriptions should clearly describe each position and duties, qualifications and experiences related to the proposed plan. Resumes must indicate the staff qualifications to carry out the proposed plan and activities. (2 points)

• How will the plan be sustained after the grant ends? (2 points)

• Does the applicant describe key partners specifying their roles, responsibilities, and resources (MOU, Letters of Support are provided in the appendix). (3 points)

F. Communication and Information Sharing. (Total 10 points)

• Does the applicant describe plans to share experiences, strategies, and results with other interested communities and partners? (5 points)

• Does the applicant describe plans to ensure effective and timely communication and exchange of information, experiences and results through mechanisms such as the Internet, workshops, and other methods? (5 points)

G. Budget Justification. (Total 10 points)

• Is the budget reasonable and consistent with the proposed activities and intent of the program? (4 points)

• Does the budget narrative justification explain each line item and the relevancy to the proposed plan? (4 points)

• Does the budget include in-kind services? (2 points)

2. Review and Selection Process

Applications will be reviewed for timeliness and completeness by the Division of Grants Operations and for responsiveness by the HP/DP staff. Late and incomplete applications will be considered ineligible and will be returned to the applicant without review.

Applications will be evaluated and rated based on the evaluation criteria listed in Section V.1. Applicants will be notified if their application did not meet submission requirements.

In addition to the above criteria/requirements, applications are considered according to the following:

A. Proposals will be reviewed for merit by the Objective Review Committee consisting of Federal and non-Federal reviewers appointed by the IHS.

B. The technical review process ensures the selection of quality projects in a national competition for limited funding.

After review of the applications, rating scores will be ranked, and the applications with the highest rating scores will be recommended for funding. Applicants scoring below 60 points will be disapproved.

3. Anticipated Announcement and Award Dates

Earliest anticipated award date is September 1, 2006.

VI. Award Administration Information

1. Award Notices

Notification: August 1, 2006.

The program officer will notify the contact person identified on each proposal of the results in writing via postal mail. Applicants whose applications are declared ineligible will receive written notification of the ineligibility determination and their original grant application via postal mail. The ineligible notification will include information regarding the rationale for the ineligible decision citing specific information from the original grant application. Applicants who are approved but unfunded and disapproved will receive a copy of the Executive Summary which identifies the weaknesses and strengths of the application submitted. Applicants which are approved and funded will be notified through the Financial Assistant Award (FAA) document. The FAA will serve as the official notification of a grant award and will state the amount of Federal funds awarded, the purpose of the grant, the terms and conditions of the grant award, the effective date of the award, the project period, and the budget period. The FAA will be signed by the Grants Management Officer and serves as the authorizing document. Any other correspondence announcing to the Applicant's Project Director that an application was recommended for approval is not an authorization to begin performance. Pre-award costs are not allowable charges under this program grant.

2. Administrative and National Policy Requirements

A. 45 CFR Part 92, “Uniform Administrative Requirements for Grants and Cooperative Agreements to State, Local, and Tribal Governments”, or 45 CFR Part 74, “Uniform Administration Requirements for Awards and Subawards to Institutions of Higher Education, Hospitals, Other Non-Profit Organizations, and Commercial Organizations”.

B. Appropriate Cost Principles: OMB Circular A-87, “State, Local, and Indian Tribal Governments,” or OMB Circular A-122, “Non-Profit Organizations”.

C. OMB Circular A-133, “Audits of States, Local Governments, and Non-Profit Organizations”.

D. PHS Grants Policy Statement, Revised April 1994

3. Reporting

A. Progress Report—Program progress reports are required semi-annually. These reports will include a brief comparison of actual accomplishments to the goals established for the period, reasons for slippage (if applicable), and other pertinent information as required. A final report must be submitted within 90 days of expiration of the budget/project period.

B. Financial Status Report—Semi-annual financial status reports (FSR) must be submitted within 30 days of the semi-annual report. Final FSR are due within 90 days of expiration of the budget/project period. Standard Form 269 (long form) can be download from http://www.whitehouse.gov/omb/grants/sf269.pdf for financial reporting.

Failure to submit required reports may result in one or both of the following:

A. The imposition of special award provisions; and

B. The withholding of support of other eligible projects or activities.

This applies whether the delinquency is attributable to the failure of the grantee organization or the individual responsible for preparation of the reports.

VII. Agency Contact(s)

1. Questions on the programmatic and technical issues may be directed to: Alberta Becenti, Health Promotion/Disease Prevention Consultant. Phone: (301) 443-4305, Fax: (301) 594-6213. abecenti@hqe.ihs.gov.

2. Questions on grants management and fiscal matters may be directed to: Denise Clark, Grants Management Specialist. Phone: (301) 443-5204, Fax: (301) 443-9602. dclark@hqe.ihs.gov.

The Public Health Service strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the Public Health Service mission to protect and advance the physical and mental health of the American people.

VIII. Other Information

Applicants are encouraged to bring draft narratives of their anticipated grant application. Participation is limited to two personnel from each Tribal or Urban Indian organization. All sessions are on a first come—first serve bases. Interested parties should register with the HP/DP program prior to making travel arrangements to ensure space availability. All participants are responsible for making and paying for their own travel arrangements.

Dated: March 29, 2006.
Robert G. McSwain,
Deputy Director, Indian Health Service.

[FR Doc. 06-3257 Filed 4-4-06; 8:45 am]

BILLING CODE 4165-16-P